DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Patent Processing (Updating).

Form Number(s): PTO/SB/08a, PTO/SB/08b, PTO/SB/17i, PTO/SB/17P, PTO/SB/21-27, PTO/SB/30-37, PTO/SB/42-43, PTO/SB/61-64, PTO/SB/64a, PTO/SB/67-68, PTO/SB/91-92, PTO/SB/96-97, PTO-2053-A/B, PTO-2054-A/B, PTO-2055-A/B, PTOL/413A.

Agency Approval Number: 0651-0031.

Type of Request: Revision of a currently approved collection.

Burden: 2,732,441 hours.

Number of Respondents: 2,284,439 responses.

Avg. Hours Per Response: 1 minute 48 seconds to 8 hours. The USPTO estimates that it will take 12 minutes (0.20) to complete the petition for express abandonment to obtain a refund. This includes time to gather the necessary information, create the documents, and submit the completed request.

Needs and Uses: This proposed new petition for express abandonment to obtain a refund will benefit the applicant by allowing the applicant to receive a refund of the search fee if the applicant files a written express abandonment as prescribed by the Director before an examination has been made of the application. The USPTO is submitting this collection in support of a notice of proposed rulemaking, “Changes to Implement the Patent Search Fee Refund Provisions of the Consolidated Appropriations Act, 2005” (RIN 0651-AB79). There is one form associated with this final rulemaking, PTO/SB 24b, Petition for Express Abandonment to Obtain a Refund.

Affected Public: Individuals or households; business or other for-profit; not-for-profit institutions; farms, the Federal government, and State, local or tribal governments.

Frequency: On occasion.

Respondent's Obligation: Required to obtain or retain benefits.

OMB Desk Officer: David Rostker, (202) 395-3897.

Copies of the above information collection proposal can be obtained by any of the following methods:

• E-mail: Susan.Brown@uspto.gov. Include “0651-0031 copy request” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before July 22, 2005, to David Rostker, OMB Desk Officer, Room 10202, New Executive Office Building, 725 17th Street, NW., Washington, DC 20503.

Dated: June 15, 2005.
Susan K. Brown,
Records Officer, USPTO, Office of Data Architecture and Services, Data Administration Division.

[FR Doc. 05-12294 Filed 6-21-05; 8:45 am]

BILLING CODE 3510-16-P